DEPARTMENT OF THE TREASURY

Submission for OMB Review; Comment Request

June 18, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 28, 2003 to be assured of consideration.

Departmental Offices/International Portfolio Investment Data Systems

OMB Number: 1505-0146.

Form Number: TD F SHCA-1, -2, -3.

Type of Review: Revision.

Title: Survey of U.S. Ownership of Foreign Securities.

Description: The survey will collect information on U.S. holdings of foreign securities. The information will be used in the computation of the U.S. balance of payments accounts and international investment position, as well as in the formulation of U.S. financial and monetary policies. The survey is also part of an international effort coordinated by the International Monetary Fund (IMF) to improve worldwide balance of payments statistics. Respondents are primarily the largest banks, securities dealers, and investors.

Respondents: Business or other for-profit, Not-for-profit institutions.

Estimated Number of Respondents/Recordkeepers: 541.

Estimated Burden Hours Per Respondent/Recordkeeper: 82 hours.

Frequency of Response: Annually.

Estimated Total Reporting/Recordkeeping Burden: 44,159 hours.

Clearance Officer: Lois K. Holland, (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Departmental Reports, Management Officer.

[FR Doc. 03-16118 Filed 6-25-03; 8:45 am]

BILLING CODE 4811-16-P